ENVIRONMENTAL PROTECTION AGENCY

[ER-FRL-6661-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-B65011-00 Rating LO, White Mountain National Forest, Propose Land and Resource Management Plan, Forest Plan Revision Implementation, Carroll, Coos and Grafton Counties, NH and Oxford County, ME.

Summary: EPA expressed a lack of objection to the project as proposed.

Final EIS

ERP No. D-COE-F36166-OH Rating EC2, Mill Creek, Ohio Flood Damage Reduction Project, To Reduce Damages to Communities, Hamilton County, OH.

Summary: EPA expressed concern because the proposed channel modification may cause a change to the designated use for Mill Creek, and that the change would require updating and modifying the current Total Maximum Load (TMDL) report and use designation(s) of the stream, and the Draft EIS did not provide detail information regarding the protocols that will be used to determine if the soils to be excavated are contaminated, the method of removal, and the disposal of those soils.

ERP No. D-FHW-E40803-TN Rating EC2, TN-397 (Mack Hatcher Parkway Extension) Construction from US-31 (TN-6, Columbia Avenue) South of Franklin to US-341 (TN-106, Hillsboro Road) North of Franklin, Williamson County and the City of Franklin, TN.

Summary: EPA expressed concern related to direct and indirect impacts to water quality and historic properties, and recommended mitigation measures and additional monitoring to prevent further degradation of impaired water bodies in the project area.

ERP No. D-FRC-B03011-MA Rating EU3, Weaver's Cove Liquefied Natural Gas (LNG) Project, Construct and Operate Onshore Liquefied Natural Gas Import and Interstate Natural Gas Transmission Facilities, Falls River, Bristol County, MA.

Summary: EPA commented that the proposed project would have significant, avoidable, and unsatisfactory impacts to the resources and habitats of Mount Hope Bay and the Taunton River. EPA also recommended that a supplemental EIS be prepared due to the inadequate information about the dredging and disposal program, the limited scope of alternatives, and an inadequate analysis of impacts.

ERP No. D-FRC-B03012-RI Rating EC2, KeySpan Liquefied Natural Gas (LNG) Facility Upgrade Project, Construction and Operation, and Algonquin Gas Transmission Project, Proposal for Site, Construct and Operate a New Natural Gas Pipeline, Coast Guard Permit, U.S. Army COE Section 10 and 404 Permits, Providence County, RI and New England.

Summary: EPA expressed concerns about the need for additional mitigation and about the analysis of air quality, ballast water, cumulative impacts and environmental justice.

ERP No. D-IBR-K39089-CA Rating EC2, Folsom Dam Road Access Restriction Project, Control Access to Folsom Dam, City of Folsom, CA.

Summary: EPA expressed concerns about the indirect effects from the project's changes in traffic patterns my result in significant localized impacts in air quality, environmental justice, and cultural resources.

ERP No. D-NIH-B81009-MA Rating EC2, National Emerging Infectious Diseases Laboratories, Construction of a National Biocontainment Laboratory, BioSquare Research Park, Boston University Medical Center Campus, Boston, MA.

Summary: EPA expressed concerns related to air quality issues, cumulative impacts, and environmental justice.

ERP No. D-NPS-B65012-ME Rating LO, Schoodic General Management Plan Amendment, Implementation, Acadia National Park, ME.

Summary: EPA had no objection to the proposed project.

ERP No. D-NPS-K65276-AZ Rating EC2, Chiricahua National Monument Fire Management Plan (FMP), Implementation, AZ.

Summary: EPA expressed concerns about water quality impacts and requested additional information on water quality, mitigation, and monitoring.

ERP No. D-NRC-B06005-CT Rating EC2, GENERIC—License Renewal of Nuclear Plants for the Millstone Power Station, Units 2 and 3, Supplement 22 to NUREG-1437, Implementation, New London County, CT.

Summary: EPA expressed concern about operational and cumulative impacts, and requested additional information be prepared in the FEIS to address these concerns.

ERP No. DC-IBW-K24017-00 Rating LO, South Bay International Wastewater Treatment Plan (SBIWTP), To Address Treatment Alternatives from Tijuana, Mexico that cross into United States/Mexico Border in San Diego County, CA.

Summary: EPA has no objections to this project and supports continuing inter-agency coordination to comply with the Clean Water Act and protect public health and the environment in the San Diego border region.

Final EISs

ERP No. F-BLM-K65274-NV, Las Vegas Valley Disposal Boundary Project, Disposal and Use of Public Land under the Management of (BLM), Implementation, Clark County, NV.

Summary: EPA's previous issues have been resolved; therefore, EPA has no objection to the action as proposed.

ERP No. F-BLM-L65440-OR Upper Deschutes Resource Management Plan, Implementation, Deschutes, Klamath, Jefferson and Cook Counties, OR.

Summary: EPA continues to recommend that water quality be a focus in management of the area and that 303(d) listed streams be restored. EPA supports the flexible management strategy of the Preferred Alternative and recommends that degraded allotments be taken out of use until revegetated.

ERP No. F-FHW-C40159-NJ Penns Neck Area Transportation Service Improvements, Phase I Archeological Survey, US 1, Sections 2S and 3J, Funding, West Windsor and Princeton Townships, Mercer County, and Plainsboro Township, Middlesex County, NJ.

Summary: EPA's previous concerns have been resolved; therefore, EPA has no objection to the proposed action.

ERP No. FA-FTA-C40046-NY Erie Canal Harbor Project (formerly known as the Buffalo Inner Harbor Development Project) Updated Information on the Original Project, City of Buffalo, Erie County, NY.

Summary: EPA had no objection to the project.

ERP No. F1-FHW-F40356-WI US 10 Highway Improvements between Marshfield and Appleton, Trestik Road—CTH“K” (Stevens Point Bypass), Funding and COE Section 404 Permit, Portage County, WI.

Summary: EPA continues to express concern about wetlands mitigation and the need to provide additional cumulative impact analysis.

Dated: March 8, 2005.
Robert W. Hargrove,
Director, NEPA Compliance Division, Office of Federal Activities.

[FR Doc. 05-4873 Filed 3-10-05; 8:45 am]

BILLING CODE 6560-50-P